DEPARTMENT OF AGRICULTURE

Reconstruction of Meadows Road #205 and Issuance of a Road Easement for Access to Private Land

AGENCY: Forest Service, USDA.

ACTION: Notice of intent to prepare an Environmental Impact Statement in conjunction with issuance of a road easement and reconstruction of the Meadows Road #205 through an inventoried roadless area Dolores County, Colorado.

SUMMARY: The Forest Service will prepare an environmental impact statement in conjunction with a proposal to issue a road easement to a private landowner and the reconstruction of an existing classified roadway, the Meadows Road #205, across a portion of an inventoried roadless area to access the landowners property.

This notice describes known issues with the proposed road reconstruction project, estimated dates for filing the environmental impact statement, information concerning public and tribal participation, and the names and addresses of the agency officials who can provide additional information.

DATES: Comments concerning the scope of the analysis should be received in writing by August 30, 2001. The agency expects to file a draft environmental impact statement with the Environmental Protection Agency (EPA) and make it available for public, agency, and tribal government comment in late fall of 2001. A final environmental impact statement is expected to be filed in February of 2002.

ADDRESSES: Send written comments to: James Powers, Forest Planner, San Juan National Forest, 15 Burnett Court, Durango, CO 81301.

FOR FURTHER INFORMATION CONTACT: John Reidinger, Forester, Mancos-Dolores Ranger District, P.O. Box 210, Dolores, CO 81323 (970-882-7296).

Responsible Official: Rick Cables, Rocky Mountain Regional Forester at P.O. Box 25127, Lakewood, CO 80225-0127.

SUPPLEMENTARY INFORMATION: Pursuant to Part 36 Code of Federal Regulations (CFR) 219.10(g), the Regional Forester for the Rocky Mountain Region gives notice of the agency's intent to prepare an environmental impact statement for road reconstruction and issuance of an easement across such road in an inventoried roadless area for the purpose of providing the applicant access to non-federally owned lands within the boundaries of the National Forest System.

The Regional Forester gives notice that the Forest is initiating an environmental-analysis and decision-making process for this proposed action so that interested or affected people can participate in the analysis and contribute to the final decision.

Opportunities will be provided to discuss the road reconstruction and easement issuance proposal openly with the public. The public is invited to help identify issues and define the range of alternatives to be considered in the environmental impact statement. Written comments identifying issues for analysis and the range of alternatives will be encouraged.

The public has already identified a number of issues. Additional issue identification (scoping) will continue in the summer of 2001. Requests to be on the mailing list should be sent to: John Reidinger, Forester, P.O. Box 210, Dolores, CO 81323 (970) 882-7296.

This project is being undertaken to provide access to a private, non-federally owned land as required by the Alaska Native Interest Lands Conservation Act (P.L. 96-487). Private land inholders are to be provided access across National Forest System land to private land that is adequate to secure the owners thereof of reasonable use and enjoyment of their land. The private landowner has proposed use of the existing road across the inventoried roadless area to meet their access needs.

Major Issues

Lizard Head Roadless Area

This RARE II area is an area of approximately 4,940 acres that is immediately south of the Lizard Head Wilderness and north of Colorado Highway 145. It has a low wilderness attribute rating because of its proximity to the highway and the West Dolores road and was excluded from the Lizard Head wilderness when it was created in 1983. The existing Meadows road #205 crosses a portion of this inventoried roadless area.

Wetlands

The existing roadway crosses several small areas of wetlands.

Geological Hazards

The only alternative to the Meadows Road that provides access to the private lands is another existing two-track road that is unsafe and is closed by landslides.

Involving the Public: The Forest Service is seeking information, comments, and assistance from individuals, organizations, tribal governments, and federal, state, and local agencies that are interested in or may be affected by the proposed action. The range of alternatives to be considered in the DEIS will be based on public issues, management concerns, resource management opportunities, and specific decisions to be made.

Public participation will be solicited by notifying in person and/or may mail known interested and affected local government agencies. News releases will be used to give the public general notice.

Release and review of the EIS: We expect the DEIS to be filed with the Environmental Protection Agency (EPA) and to be available for public, agency, and tribal government comment in summer of 2001. At that time, the EPA will publish a notice of availability for the DEIS in the Federal Register. The comment period on the DEIS will be 45 days from the date the EPA publishes the notice of availability in the Federal Register.

The Forest Service believes, at this early state, it is important to give reviewers notice of several court rulings related to public participation in the environmental review process. First, reviewers of the DEIS must participate in the environmental review of the proposal in such a way that their participation is meaningful and alerts an agency to the reviewer's position and contentions; Vermont Yankee Nuclear Power Corp. v. NRDC. 435 U.S. 519, 553 (1978). Also, environmental objections that could be raised at the DEIS stage but are not raised until after completion of the Final Environmental Impact Statement (FEIS) may be waived or dismissed by the courts; City of Angoon v. Hodel, 803 F.2d 1016, 1022 (9th Cir. 1986) and Wisconsin Heritages, Inc., v. Harris, 490 F. Supp. 1334, 1338 (E.D. Wis. 1980). Because of these court rulings, it is very important that those interested in this proposed action participate by the close of the comment period, so that substantive comments and objections are made available to the Forest Service at a time when it can meaningfully consider them and respond to them in the FEIS.

To assist the Forest Service in identifying and considering issues and concerns relating to the proposed actions, comments on the DEIS should be as specific as possible. It is also helpful if comments refer to specific pages or chapters of the draft statement. Comments may also address the adequacy of the DEIS or the merits of the alternatives formulated and discussed in the statements. In addressing these points, reviewers may wish to refer to the Council on Environmental Quality Regulations for implementing the procedural provisions of the National Environmental Policy Act at 40 CFR 1503.3.

After the comment period on the DEIS ends, comments will be analyzed, considered, and responded to by the Forest Service in preparing the Final EIS. The FEIS is scheduled to be completed in February of 2001. The responsible official will consider the comments, responses, environmental consequences discussed in the FEIS, and applicable laws, regulations, and policies in making decisions regarding these revisions. The responsible official will document the decisions and reasons for the decisions in a Record of Decision. The decision will be subject to appeal in accordance with 36 CFR 215.

Dated: July 9, 2001.
Kent Hoffman,
Deputy Forest Supervisor, San Juan National Forest, USDA Forest Service.

[FR Doc. 01-17654 Filed 7-13-01; 8:45 am]

BILLING CODE 3410-11-M